ENVIRONMENTAL PROTECTION AGENCY

[PB-402404-CA; FRL-6045-7]

Lead-Based Paint Activities in Target Housing and Child-Occupied Facilities; State of California's Authorization Application

AGENCY: Environmental Protection Agency (EPA).

ACTION: Notice.

SUMMARY: On November 4, 1999, the State of California submitted a complete application to administer and enforce training and certification requirements, training program accreditation requirements, and work practice standards for lead-based paint activities in target housing and child-occupied facilities under section 402 of the Toxic Substances Control Act (TSCA) for EPA approval. This notice announces the receipt of the State of California's complete application, provides a 45-day public comment period, and an opportunity to request a public hearing on the application. In its initial submittal of its application, dated September 28, 1998, the State of California certified that its program meets the requirements for approval of a State program under section 404 of TSCA. Therefore, pursuant to section 404, the program is deemed authorized as of September 28, 1998. If EPA subsequently finds that the program does not meet all the requirements for approval of a State program, EPA will work with the State to correct any deficiencies in order to approve the program. If the deficiencies are not corrected, a notice of disapproval will be issued in the Federal Register and a Federal program will be implemented in the State.

DATES: Comments, identified by docket control number PB-402404-CA, must be received on or before April 7, 2000. Public hearing requests must be submitted on or before April 7, 2000.

ADDRESSES: Comments and public hearing requests may be submitted by mail, electronically, or in person. Please follow the detailed instructions for each method as provided in Unit I. of the “SUPPLEMENTARY INFORMATION.” To ensure proper receipt by EPA, it is imperative that you identify docket control number PB-402404-CA in the subject line of the first page of your response.

FOR FURTHER INFORMATION CONTACT: Patricia Norton, Lead Coordinator, Environmental Protection Agency, Region IX, 75 Hawthorne St., CMD4-2, San Francisco, CA 94105; telephone number: (415) 744-1069; e-mail address: norton.patricia@epa.gov.

SUPPLEMENTARY INFORMATION:

I. General Information

A. Does this Action Apply to Me?

This action is directed to the public in general, but may be of particular interest to firms and individuals engaged in lead-based paint activities in the State of California. Since other entities may also be interested, the Agency has not attempted to describe all the specific entities that may be affected by this action. If you have any questions regarding the applicability of this action to a particular entity, consult the person listed under “FOR FURTHER INFORMATION.”

B. How Can I Get Additional Information, Including Copies of this Document or Other Related Documents?

1. Electronically. You may obtain electronic copies of this document and certain other related documents that might be available electronically from the EPA Internet Home Page at http://www.epa.gov. To access this document on the Home Page select “Laws and Regulations” and then look up the entry for this document under the “Federal Register—Environmental Documents.” You can also go directly to the Federal Register listings at http://www.epa.gov/fedrgstr.

2. In person. Copies of this notice and the State of California's authorization application are available for inspection at the EPA Region IX Library, Environmental Protection Agency, 75 Hawthorne St., CMD4-2, San Francisco, CA. If you need assistance, please consult the person listed under FOR FURTHER INFORMATION.

C. How and to Whom Do I Submit Comments and Public Hearing Requests?

You may submit comments and public hearing requests by mail, in person, or electronically. To ensure proper receipt by EPA, it is imperative that you identify docket control number PB-402404-CA in the subject line of the first page of your response.

1. By mail. Submit your comments and public hearing requests to: Patricia Norton, Lead Coordinator, Environmental Protection Agency, Region IX, 75 Hawthorne St., CMD4-2, San Francisco, CA 94105.

2. In person or by courier. Deliver your comments and public hearing requests to: Patricia Norton, Lead Coordinator, Environmental Protection Agency, Region IX, 75 Hawthorne St., CMD4-2, San Francisco, CA. The telephone number is (415) 744-1093. The regional office is open from 8 a.m. to 5 p.m., Monday through Friday, excluding legal holidays.

3. Electronically. You may submit your comments and public hearing requests electronically by e-mail to: norton.patricia@epa.gov, or mail your computer disk to the address identified above. Do not submit any information electronically that you consider to be Confidential Business Information (CBI). Electronic comments and public hearing requests must be submitted as an ASCII file avoiding the use of special characters and any form of encryption. Comments and data and public hearing requests will also be accepted on standard disks in WordPerfect 6.1/8.0 or ASCII file format. All comments and public hearing requests in electronic form must be identified by docket control number PB-402404-CA. Electronic comments and public hearing requests may also be filed online at many Federal Depository Libraries.

D. How Should I Handle Confidential Business Information That I Want to Submit to the Agency?

Do not submit any information electronically that you consider to be CBI. You may claim information that you submit to EPA in response to this notice as CBI by marking any part or all of the information submitted as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION.

II. Background

A. What Action Is the Agency Taking?

The State of California initially submitted its application for EPA approval of its lead-based paint training and certification program on September 22, 1998. On November 4, 1999, the State of California submitted an amended application for EPA approval of its lead-based paint training and certification program. EPA has found that the application includes a transmittal letter from the Governor requesting program approval; a summary of the State program; a detailed description and analysis of the State program which addresses specified elements; an Attorney General's Statement certifying the adequacy of the State's legal authority to administer and enforce the program and citing the specific statutes and regulations providing this authority; and copies of all state regulations, standards and other materials that provide the State with the authority to administer and enforce a lead-based paint program. Thus, the State of California's application has been deemed by EPA to be complete as of November 4, 1999, the date of the submission of its amended application pursuant to 40 CFR part 745, subpart Q.

In its initial application submission on September 28, 1998, the State of California provided to EPA a certification letter signed by the Governor, and a certification statement from the Office of the Attorney General, stating that its lead-based paint training and certification program meets the requirements for authorization of a State program under section 404(b) of TSCA. Therefore, pursuant to section 404 of TSCA, the program is deemed authorized as of that date (September 28, 1998). If EPA subsequently finds that the program does not meet all the requirements for approval of a State program, EPA will work with the State to correct any deficiencies in order to approve the program. If the deficiencies are not corrected, a notice of disapproval will be issued in the Federal Register and a Federal program will be implemented in the state.

Pursuant to section 404(b) of TSCA (15 U.S.C. 2684(b)), EPA must provide notice and an opportunity for a public hearing on a State or Tribal program application before approving the application. Therefore, by this notice EPA is soliciting public comment on whether the State of California's application meets the requirements for EPA approval. This notice also provides an opportunity to request a public hearing on the application. If a public hearing is requested and granted, EPA will issue a Federal Register notice announcing the date, time, and place of the hearing. EPA's final decision on the application will be published in the Federal Register.

B. What is the Agency's Authority for Taking This Action?

On October 28, 1992, the Housing and Community Development Act of 1992, Public Law 102-550, became law. Title X of that statute was the Residential Lead-Based Paint Hazard Reduction Act of 1992. That Act amended TSCA (15 U.S.C. 2601 et seq.) by adding Title IV (15 U.S.C. 2681-2692), entitled “Lead Exposure Reduction.”

Section 402 of TSCA (15 U.S.C. 2682) authorizes and directs EPA to promulgate final regulations governing lead-based paint activities in target housing, public and commercial buildings, bridges, and other structures. Those regulations are to ensure that individuals engaged in such activities are properly trained, that training programs are accredited, and that individuals engaged in these activities are certified and follow documented work practice standards. Under section 404 of TSCA, (15 U.S.C. 2684), a State may seek authorization from EPA to administer and enforce its own lead-based paint activities program.

On August 29, 1996 (61 FR 45777) (FRL-5389-9), EPA promulgated final TSCA section 402/404 regulations governing lead-based paint activities in target housing and child-occupied facilities (a subset of public buildings). Those regulations are codified at 40 CFR part 745, and allow both States and Indian Tribes to apply for program authorization. Pursuant to section 404(h) of TSCA (15 U.S.C. 2684(h)), EPA is to establish the Federal program in any State or Tribal Nation without its own authorized program in place by August 31, 1998.

States and Tribes that choose to apply for program authorization must submit a complete application to the appropriate Regional EPA Office for review. Those applications will be reviewed by EPA within 180 days of receipt of the complete application. To receive EPA approval, a State or Tribe must demonstrate that its program is at least as protective of human health and the environment as the Federal program, and provides for adequate enforcement (section 404(b) of TSCA, (15 U.S.C. 2684(b)). EPA's regulations (40 CFR part 745 subpart Q) provide the detailed requirements a State or Tribal program must meet in order to obtain EPA approval.

A State may choose to certify that its lead-based paint activities program meets the requirements for EPA approval, by submitting a letter signed by the Governor or Attorney General stating that the program meets the requirements of section 404(b) of TSCA. Upon submission of such certification letter, the program is deemed authorized (15 U.S.C. 2684(a)). This authorization becomes ineffective, however, if EPA disapproves the application.

III. State Program Description Summary

The State of California provided the following summary of its proposed program:

In 1993, the Training and Certification Program for Lead-Based Paint Activities was established within the California Department of Health Services, Childhood Lead Poisoning Prevention Branch (Department). Section 105250 of the California Health and Safety Code specifies:

“A program is hereby established within the Department [Health Services] to meet the requirements of the Residential Lead-Based Paint Hazard Reduction Act of 1992 (42 U.S.C. Sec. 4851 and following) and Title X of the Housing and Community Development Act of 1992 (Pub. L. 102-550). The Department shall implement and administer the program. The Department shall have powers and authority consistent with the intent of, and shall promulgate regulations to establish the program as an authorized state program pursuant to, Title IV, Section 402 to 404, inclusive of the Toxic Substances Control Act (15 U.S.C. Sec. 2601 and following).”

The elements needed to become an authorized state program are specified in Federal Regulations (Final Rule) “Lead; requirements for lead-based paint activities in target housing and child-occupied facilities” (40 CFR part 745). The final rule establishes standards for:

1. Accreditation of training programs

2. Certification of individuals

3. Work practice standards for conducting abatement and lead hazard evaluation. These regulations also establish the process and requirements that a state must meet in order to become an authorized program.

In order to establish the regulatory framework required to become an authorized state program, the Department promulgated regulations (Title 17, California Code of Regulations, Division 1, Chapter 8) in July of 1994, establishing requirements for the accreditation of lead-related construction training providers and the interim certification of individuals engaged in lead-related construction work. The Department subsequently amended Chapter 8 to include work practice standards for the evaluation and abatement of lead hazards. These regulations provide the regulatory authority to administer and enforce the Training and Certification Program for Lead-Based Paint Activities.

IV. Federal Overfiling

TSCA section 404(b) (15 U.S.C. 2684(b)) makes it unlawful for any person to violate, or fail or refuse to comply with, any requirement of an approved State or Tribal program. Therefore, EPA reserves the right to exercise its enforcement authority under TSCA against a violation of, or a failure or refusal to comply with, any requirement of an authorized State or Tribal program.

V. Submission to Congress and the General Accounting Office

The Congressional Review Act, 5 U.S.C. 801 et seq., as added by the Small Business Regulatory Enforcement Fairness Act of 1996, generally provides that before certain actions may take effect, the agency promulgating the action must submit a report, which includes a copy of the action, to each House of the Congress and to the Comptroller General of the United States. EPA will submit a report containing this action and other required information to the U.S. Senate, the U.S. House of Representatives, and the Comptroller General of the United States prior to publication of this document in the Federal Register. This action is not a “major rule” as defined by 5 U.S.C. 804(2).

List of Subjects

Environmental protection, Hazardous substances, Lead, Reporting and recordkeeping requirements.

Dated: February 4, 2000.
Enrique Manzanilla,
Acting Regional Administrator, Region IX.

[FR Doc. 00-4050 Filed 2-18-00; 8:45 a.m.]

BILLING CODE 6560-50-F